DEPARTMENT OF TRANSPORTATION

Federal Aviation Administration

14 CFR Parts 11, 61, 68, and 91

[Docket No. FAA-2024-2580; Amdt. Nos. 11-70, 61-158, 68-3, and 91-380]

RIN 2120-AM06

Regulatory Updates to BasicMed

Correction

In rule document 2024-26935, appearing on pages 90572 through 90578 in the issue of Monday, November 18, 2024, make the following correction:

§ 11.201 [Corrected]

On page 90577, in the second column, instruction 2, “ 2. Amend § 11.201 by revising the table in paragraph (b) to read as follows:” should read “ 2. Amend § 11.201 in the table in paragraph (b) by adding in numerical order an entry for “Part 68” to read as follows:”.

[FR Doc. C1-2024-26935 Filed 1-2-25; 8:45 am]

BILLING CODE 0099-10-D